DEPARTMENT OF HEALTH AND HUMAN SERVICES

45 CFR Parts 1385, 1386, 1387, and 1388

RIN 0970-AB11

Developmental Disabilities Program

AGENCY: Administration on Developmental Disabilities, Administration for Children and Families, HHS.

ACTION: Proposed rule; reopening of comment period.

SUMMARY: The Administration on Developmental Disabilities (ADD) reopens the public comment period on the proposed rule published in the Federal Register on April 10, 2008 (73 FR19708) to propose clarifications and new requirements to implement the Developmental Disabilities Assistance and Bill of Rights Act of 2000 (DD Act of 2000). During the comment period there were instances when the electronic system was not available and individuals were having difficulties using the system. ADD is reopening the comment period of the NPRM to ensure that all individuals have an opportunity to comment on the proposed rule. Also, the submission of comments electronically will now be through the OMB regulations Web site, regulations.gov, rather than ACF's regulations Web site.

DATES: Comments will be accepted through September 29, 2008.

ADDRESSES: Interested persons are invited to submit comments regarding this proposed rule to: Commissioner, Administration on Developmental Disabilities, Administration for Children and Families, 370 L'Enfant Promenade, SW., Mail Stop: HHH 405D, Washington, DC 20447. Persons may also transmit comments electronically via the internet at: http://www.regulations.gov. Electronic comments must include the full name, address, and organizational affiliation (if any) of the commenter. All comments and letters will be available for public inspection, Monday through Friday 7 a.m. to 4 p.m., at the address above, by calling (202) 690-5841 to set up an appointment and gain entry to the building. Electronically-submitted comments will be available for viewing immediately. To download an electronic version of the rule, access the OMB Web site http://www.regulations.gov.

FOR FURTHER INFORMATION CONTACT: Elsbeth Porter Wyatt, Administration on Developmental Disabilities, telephone (202) 690-5841 (Voice). The TDD telephone number for the Administration on Developmental Disabilities is (202) 690-6415. These are not toll-free numbers. This document will be made available in alternative formats upon request.

Dated: July 22, 2008.
Ann C. Agnew,
Executive Secretary to the Department.

[FR Doc. E8-17296 Filed 7-28-08; 8:45 am]

BILLING CODE 4194-01-P